DEPARTMENT OF COMMERCE

National Oceanic and Atmospheric Administration

[I.D. 110501C]

Marine Mammals; File Nos. 482-1653 and 1018-1655.

AGENCY: National Marine Fisheries Service (NMFS), National Oceanic and Atmospheric Administration (NOAA), Commerce.

ACTION: Receipt of applications for scientific research permits.

SUMMARY: Notice is hereby given of the following actions regarding permits for takes of marine mammal species for the purposes of scientific research: NMFS has received scientific research permit applications from: James Gilbert, Ph.D., University of Maine, Department of Wildlife Ecology, 210 Nutting Hall, Orono, ME 04469 (File No. 482-1653); and Luciana Moller, Ph.D., Department of Ecology and Evolutionary Biology, Yale University, New Haven, CT 06520 (File No. 1018-1655).

DATES: Written or telefaxed comments on new applications must be received on or before December 14, 2001.

ADDRESSES: Written comments on any of the applications should be sent to the appropriate office as indicated below. Comments may also be sent via fax to the number indicated for the applications. Comments will not be accepted if submitted via e-mail or the internet. The applications and related documents are available for review upon written request or by appointment in the following office:

Northeast Region, NMFS, One Blackburn Drive, Gloucester, MA 01930-2298; phone (978) 281-9200; fax (978) 281-9371.

Documents may also be reviewed by appointment in the Permits and Documentation Division, Office of Protected Resources, NMFS, 1315 East-West Highway, Room 13705, Silver Spring, MD 20910; phone (301) 713-2289; fax (301) 713-0376.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

FOR FURTHER INFORMATION CONTACT: For Application File No. 482-1653: Amy Sloan or Ruth Johnson, (301) 713-2289.

For Application File No. 1018-1655: Amy Sloan or Lynne Barre, (301) 713-2289.

SUPPLEMENTARY INFORMATION: The subject permits are requested under the authority of the Marine Mammal Protection Act of 1972, as amended (MMPA; 16 U.S.C. 1361 et seq.), and the Regulations Governing the Taking and Importing of Marine Mammals (50 CFR part 216).

Application File No. 482-1653: Dr. Gilbert proposes to document the extent of harbor seal (Phoca vitulina) predations on the Atlantic salmon aquaculture industry's pen sites and to understand the pattern of attacks and the behavior of seals near pen sites. From this information, non-lethal approaches to deterring seals will be determined. The specific research objectives are (1) to document the frequency, pattern, and extent of seal depredations at Atlantic salmon aquaculture farms; (2) to determine if this frequency, pattern, and extent is related to the number of seals at nearby haulout sites throughout the year; and (3) to determine if repeated depredations at a site are the result of the same seal or different seals. To accomplish this research, seals will be captured, marked, sexed, measured, blood sampled, radio-tagged, and monitored via aerial surveys. Blood samples from adult females will be used for pregnancy testing. Patterns of visitation to the pen sites, including age and sex class, will be determined.

Application File No. 1018-1655: Dr. Moller proposes to import biopsy samples taken from bottlenose dolphins (Tursiops aduncus) in Australia. The purpose(s) of this project are (1) to examine the influence of kinship on dolphin social relationships; (2) to assess sex-bias in dispersal patterns; and (3) to investigate population genetic structure of bottlenose dolphins in New South Wales. Biopsy samples already collected and analyzed in Australia for both mtDNA control region and microsatellites will be imported to the U.S. for screening at additional microsatellite loci. Additional biopsy samples will be taken in Australia and imported to the U.S. for conducting both mtDNA and microsatellite analyses.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of these applications to the Marine Mammal Commission and its Committee of Scientific Advisors.

Dated: November 7, 2001.
Ann D. Terbush,
Chief, Permits and Documentation Division, Office of Protected Resources, National Marine Fisheries Service.

[FR Doc. 01-28542 Filed 11-13-01; 8:45 am]

BILLING CODE 3510-22-S